DEPARTMENT OF AGRICULTURE

Forest Service

Lost Granite Squirrel, Colville National Forest, Pend Oreille and Stevens Counties, WA

AGENCY: Forest Service, USDA.

ACTION: Notice of intent to prepare an environmental impact statement.

SUMMARY: The Forest Service, USDA, will prepare an environmental impact statement (EIS) on a proposal to implement vegetation, riparian and road management projects. The Proposed Action will be in compliance with the 1988 Colville National Forest Land and Resource Management Plan (Forest Plan) as amended, which provides the overall guidance for management of this area. The Proposed Action is within portions of the Lost Creek and Ruby Creek drainages on the Sullivan Lake and Newport Ranger Districts. The project will be located approximately 45 miles north of Newport, Washington. Project implementation is scheduled for fiscal year 2004. The Colville National Forest invites written comments and suggestions on the scope of the analysis. The agency will give notice of the full environmental analysis and decision-making process so interested and affected people may be able to participate and contribute in the final decision.

DATES: Comments concerning the scope of the analysis should be received by April 1, 2002.

ADDRESSES: Send written comments and suggestions concerning the management of this area to Dan Dallas, District Ranger, 315 North Warren, Newport, Washington 99156. Comments may also be sent by FAX (509-447-7301). Include your name and mailing address with your comments so documents pertaining to this project may be mailed to you.

FOR FURTHER INFORMATION CONTACT: Questions about the Proposed Action and EIS should be directed to Dan Dallas, District Ranger, 315 North Warren, Newport, Washington 99156 (phone 509-447-7300), or to Amy Dillon, Interdisciplinary Team Leader, 12641 Sullivan Lake Road, Metaline Falls, Washington 99153 (phone 509-446-7500).

SUPPLEMENTARY INFORMATION: The Lost Granite Squirrel Planning Area is within the Lost Creek and Ruby Creek drainages on the Newport and Sullivan Lake Ranger Districts. The project would be located approximately 45 miles north of Newport, Washington, in the area south and west of State Route 20. The Proposed Action includes vegetation management on approximately 6,500 acres. This includes commercial treatments on approximately 4,600 acres and precommercial thinning on approximately 1,900 acres. Prescribed fire may be applied on up to 12,000 acres. The road management projects will include local governments and adjacent landowners in a transportation analysis for these drainages. Part of that analysis will consider both building and closing roads. The riparian and wetland management proposals include active stream corridor improvement along Lost Creek and Ruby Creek and using native riparian plants for soil stabilization. The following will also be included as part of this project: review of current dispersed recreation condition and future opportunities (including dispersed camping at Nile and Browns Lakes and winter recreation uses); review of the Ruby and Lost Creek grazing allotments; and analysis of noxious weed populations along Ruby Creek road and all Forest Service system roads within the analysis area.

This analysis will evaluate a range of alternatives for implementation of the project activities. The area being analyzed is approximately 47,500 acres, of which 37,335 acres are National Forest System lands. The other ownership areas are included only for analysis of effects. The project area does not include any wilderness, RARE II, or other inventoried roadless land.

The preliminary issues identified include: water quality and watershed restoration; forest stand density; forest road management and maintenance; lynx habitat management; deer winter range management, grazing allotment management, noxious weed treatments, and reintroduction of prescribed fire. Initial scoping began in February 2001. The scoping process will include the following: Identify and clarify issues; identify key issues to be analyzed in depth; explore alternatives based on themes which will be derived from issues recognized during scoping activities; and identify potential environmental effects of the Proposed Action and alternatives. A range of alternatives will be considered, including a No-Action alternative. The Forest Service is seeking information, comments, and assistance from other agencies, organizations, Indian Tribes, and individuals who may be interested in or affected by the Proposed Action. This input will be used in preparation of the draft EIS. Your comments are appreciated throughout the analysis process.

Comments received in response to this notice, including names and addresses of those who comment, will be considered part of the public record on this Proposed Action and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality. Persons requesting such confidentiality should be aware that under the FOIA, confidentiality may be granted in only very limited circumstances, such as to protect trade secrets. The Forest Service will inform the requester of the agency's decision regarding the request for confidentiality, and where the request is denied, the agency will return the submission and notify the requester that the comments may be resubmitted with or without name and address within a specified number of days.

The draft EIS is to be filed with the Environmental Protection Agency (EPA) and to be available for public review by November 2002. The EPA will publish a notice of availability of the draft EIS in the Federal Register. The comment period on the draft EIS will be 45 days from the date the EPA notice appears in the Federal Register. Copies of the draft EIS will be distributed to interested and affected agencies, organizations, Indian Tribes, and members of the public for their review and comment. It is important that those interested in the management of the Colville National Forest participate at that time.

The Forest Service believes, at this early stage, it is important to give reviewers notice of several court rulings related to public participation in the environmental review process. First, reviewers of draft EIS must structure their participation in the environmental review of the proposal so that it is meaningful and alerts an agency to the reviewer's position and contentions. Vermont Yankee Nuclear Power Corp. v. NRDC, 435 U.S. 519, 533 (1978). Also, environmental objections that could be raised at the draft EIS stage but are not raised until after completion of the final EIS may be waived or dismissed by the courts. City of Angoon v. Hodel, 803 f. 2d 1016, 1022 (9th Cir, 1986) and Wisconsin Heritages, Inc. v. Harris, 490 F. Supp. 1334, 1338 (E.D. Wis. 1980). Because of these court rulings, it is very important that those interested in this Proposed Action participate by the close of the 45-day comment period so that substantive comments and objections are made available to the Forest Service at a time when it can meaningfully consider them and respond to them in the final EIS.

To assist the Forest Service in identifying and considering issues and concerns on the Proposed Action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

The final EIS is scheduled to be available by March 2003. In the final EIS, the Forest Service is required to respond to substantive comments received during the comment period for the draft EIS. The Responsible Official is Nora Rasure, Colville National Forest Supervisor. She will decide which, if any, of the alternatives will be implemented. Her decision and rationale for the decision will be documented in the record of decision, which will be subject to Forest Service Appeal Regulations (36 CFR part 215).

Dated: February 12, 2002.
Nora Rasure,
Forest Supervisor.

[FR Doc. 02-4770 Filed 2-27-02; 8:45 am]

BILLING CODE 3410-11-M